DEPARTMENT OF COMMERCE

International Trade Administration

A-570-886

Polyethylene Retail Carrier Bags from the People's Republic of China: Notice of Partial Rescission of Antidumping Duty Administrative Review

AGENCY: Import Administration, International Trade Administration, Department of Commerce.

EFFECTIVE DATE: February 12, 2008.

FOR FURTHER INFORMATION CONTACT: Karine Gziryan, AD/CVD Operations, Office 4, Import Administration, International Trade Administration, U.S. Department of Commerce, 14th Street and Constitution Avenue, NW., Washington, DC 20230; telephone: (202) 482-4081.

SUPPLEMENTARY INFORMATION:

Background

On August 2, 2007, the Department published a notice of opportunity to request an administrative review of the antidumping duty order on polyethylene retail carrier bags from the PRC for the period of August 1, 2006, through July 31, 2007 (“POR”). See Antidumping or Countervailing Duty Order, Finding, or Suspended Investigation; Opportunity to Request Administrative Review, 72 FR 42383 (August 2, 2007).

On August 30, 2007, Sea Lake Polyethylene Enterprises, Ltd., Shanghai Glopack, Inc., Everfaith International (Shanghai) Ltd., and Shanghai Hua Yue Packaging Products requested administrative reviews of their sales of polyethylene retail carrier bags to the United States during the POR. Also on August 30, 2007, Asia Dynamics, Inc., a U.S. importer, requested a review of Shanghai Yafu Plastics Industry Co., Ltd., a producer and exporter of polyethylene retail carrier bags during the POR. On August 31, 2007, Crown Polyethylene Products (Int'l) Ltd., requested an administrative review of its sales of polyethylene retail carrier bags to the United States during the POR. Pursuant to these requests, and requests for administrative review from three other companies, the Department initiated an administrative review covering nine producers/exporters of the antidumping duty order on polyethylene retail carrier bags from the PRC.

On September 25, 2007, the Department of Commerce (“the Department”) initiated administrative reviews of the antidumping duty order on polyethylene retail carrier bags from the People's Republic of China (“PRC”) for nine companies. See Initiation of Antidumping and Countervailing Duty Administrative Reviews and Requests for Revocation in Part, 72 FR 54428 (September 25, 2007) (“Initiation Notice”). On September 28, 2007, Crown Polyethylene Products (Int'l) Ltd. withdrew its request for review. On October 22, 2007, Everfaith International (Shanghai) Ltd., and Shanghai Hua Yue Packaging Products withdrew their requests for review. On December 26, 2007, Sea Lake Polyethylene Enterprises, Ltd., and Shanghai Glopack, Inc. withdrew their requests for review. Also, on January 17, 2008, Asia Dynamics, Inc. withdrew its request for review of Shanghai Yafu Plastic Industry Co., Ltd. Therefore, the Department is rescinding the administrative reviews of sales of polyethylene retail carrier bags to the United States from the PRC covering the POR for these six companies.

Rescission of Review

Pursuant to 19 CFR 351.213(d)(1), the Department will rescind an administrative review, in whole or in part, if a party that requested a review withdraws the request within 90 days of the date of publication of the notice of initiation. In this case, five of the six companies listed above withdrew their requests for administrative review of their POR exports of polyethylene retail carrier bags within 90 days from the date of initiation. No other interested party requested a review of these companies. Therefore, the Department is rescinding this review of the antidumping duty order on polyethylene retail carrier bags from the PRC with respect to Sea Lake Polyethylene Enterprises, Ltd., Shanghai Glopack, Inc., Everfaith International (Shanghai) Ltd., Shanghai Hua Yue Packaging Products, and Crown Polyethylene Products (Int'l) Ltd., in accordance with 19 CFR 351.213(d)(1).

Asia Dynamics Inc. withdrew its request for administrative review of its POR imports of polyethylene retail carrier bags produced and exported by Shanghai Yafu Plastic Industry Co., Ltd. after 90 days from the date of initiation. However, according to 19 CFR 351.213(d)(1) the Secretary may extend the time limit of 90 days if the Secretary decides that it is reasonable to do so. Although Asia Dynamics Inc., withdrew its request after the 90-day deadline, we find it reasonable to accept the withdrawal request because, on November 16, 2007, the Department issued a final scope ruling where it determined that plastic bags called “Personal Belongings” bags imported by Asia Dynamics Inc. from Shanghai Yafu Plastics Industry Co., Ltd. are not within the scope of the antidumping duty order covering polyethylene retail carrier bags from the PRC. See Memorandum from Abdelali Elouaradia, Office Director, to Stephen J. Claeys, Deputy Assistant Security, titled “Final Scope Ruling for Asia Dynamics, Inc., and Medline Industries, Inc.” dated November 16, 2007. As a result of this final scope ruling, the Department issued liquidation instructions directing U.S. Customs and Border Protection (“CBP”) to liquidate all entries of “Personal Belongings” bags imported by Asia Dynamics Inc. No other interested party requested a review of this company. For these reasons, the Department is rescinding this review of the antidumping duty order on polyethylene retail carrier bags from the PRC with respect to Shanghai Yafu Plastic Industry Co., Ltd. in accordance with 19 CFR 351.213(d)(1).

Assessment

The Department will instruct “CBP” to assess antidumping duties on all appropriate entries for Sea Lake Polyethylene Enterprises, Ltd., Shanghai Glopack, Inc., Everfaith International (Shanghai) Ltd., Shanghai Hua Yue Packaging Products, Shanghai Yafu Plastics Industry Co., Ltd., and Crown Polyethylene Products (Int'l) Ltd. Antidumping duties shall be assessed at rates equal to the cash deposit of estimated antidumping duties required at the time of entry, or withdrawal from warehouse, for consumption, in accordance with 19 CFR 351.212(c)(1)(i). The Department intends to issue appropriate assessment instructions directly to CBP 15 days after publication of this notice in the Federal Register.

Notification to Importers

This notice serves as a final reminder to importers for whom this review is being rescinded of their responsibility under 19 CFR 351.402(f) to file a certificate regarding the reimbursement of antidumping duties prior to liquidation of the relevant entries during this review period. Failure to comply with this requirement could result in the Secretary's assumption that reimbursement of antidumping duties occurred and subsequent assessment of double antidumping duties.

Notification Regarding Administrative Protective Orders (“APOs”)

This notice also serves as a reminder to parties subject to APOs of their responsibility concerning the return or destruction of proprietary information disclosed under an APO in accordance with 19 CFR 351.305, which continues to govern business proprietary information in this segment of the proceeding. Timely written notification of the return/destruction of APO materials or conversion to judicial protective order is hereby requested. Failure to comply with the regulations and terms of an APO is a violation which is subject to sanction.

This notice is in accordance with section 777(i)(1) of the Tariff Act of 1930, as amended, and 19 CFR 351.213(d)(4) of the Department's regulations.

Dated: February 5, 2008.
Stephen J. Claeys,
Deputy Assistant Secretary for Import Administration.

[FR Doc. E8-2568 Filed 2-11-04; 8:45 am]

BILLING CODE 3510-DS-S